ENVIRONMENTAL PROTECTION AGENCY

[Regional Docket No. II-2005-01; FRL-8033-5]

Clean Air Act Operating Permit Program; Petition for Objection to State Operating Permit for Camden County Energy Recovery Associates

AGENCY: Environmental Protection Agency (EPA).

ACTION: Notice of final order on petition to object to State operating permit.

SUMMARY: This document announces that the EPA Administrator has responded to a joint citizen petition asking EPA to object to the operating permit issued to Camden County Energy Recovery Associates (CCERA) by the New Jersey Department of Environmental Protection (NJDEP). Specifically, the Administrator has partially granted and partially denied the petition submitted by the Rutgers Environmental Law Clinic on behalf of various New Jersey Environmental Groups to object to the CCERA State operating permit.

Pursuant to section 505(b)(2) of the Clean Air Act (Act), Petitioner may seek judicial review of those portions of the petition which EPA denied in the United States Court of Appeals for the appropriate circuit. Any petition for review shall be filed within 60 days from the date this notice appears in the Federal Register, pursuant to section 307 of the Act.

ADDRESSES: You may review copies of the final order, the petition, and other supporting information at the EPA Region 2 Office, 290 Broadway, New York, New York 10007-1866. If you wish to examine these documents, you should make an appointment at least 24 hours before visiting day. Additionally, the final order for CCERA is available electronically at: http://www.epa.gov/region07/programs/artd/air/title5/petitiondb/petitiondb2005.htm.

FOR FURTHER INFORMATION CONTACT: Steven Riva, Chief, Permitting Section, Air Programs Branch, Division of Environmental Planning and Protection, EPA, Region 2, 290 Broadway, 25th Floor, New York, New York 10007-1866, telephone (212) 637-4074.

SUPPLEMENTARY INFORMATION: The Act affords EPA a 45-day period to review, and object to as appropriate, operating permits proposed by State permitting authorities. Section 505(b)(2) of the Act authorizes any person to petition the EPA Administrator within 60 days after the expiration of this review period to object to State operating permits if EPA has not done so. Petitions must be based only on objections to the permit that were raised with reasonable specificity during the public comment period provided by the State, unless the petitioner demonstrates that it was impracticable to raise these issues during the comment period or the grounds for the issues arose after this period.

On February 17, 2005, the EPA received a joint petition from Rutgers Environmental Law Clinic on behalf of various New Jersey Environmental Groups, requesting that EPA object to the issuance of the title V operating permit for CCERA. The petition raises issues regarding the permit application, the permit issuance process, and the permit itself. The petitioners assert that: (1) The public was denied access to the full administrative record during the public comment period; (2) the public notice announcement failed to include the required information under 40 CFR 70.7(h)(2); (3) the permit lacks a statement of basis; (4) the permit does not include a signed compliance certification that meets the requirements of 40 CFR 70.6(c)(5)(iii); (5) the permit does not include a compliance schedule; and (6) the permit was issued in violation of the state and federal environmental justice executive orders.

On January 20, 2006, the Administrator issued an order partially granting and partially denying the petition on CCERA. The order explains the reasons behind EPA's conclusion that the NJDEP must reopen the permit to: (1) Provide an adequate statement to the public which provides documentation to support the factual basis for certain conditions, applicability determinations for source specific applicable requirements and monitoring and recordkeeping decisions; and (2) provide the rationale for selected monitoring where the underlying requirement does not specify periodic monitoring. The order also explains the reasons for denying the petitioners' remaining claims.

Dated: February 6, 2006.
Anthony Cancro,
Acting Regional Administrator, Region 2.

[FR Doc. 06-1486 Filed 2-16-06; 8:45 am]

BILLING CODE 6560-50-P